DEPARTMENT OF COMMERCE

Foreign-Trade Zones Board

[Docket 23-2012]

Foreign-Trade Zone 99—Wilmington, DE: Application for Manufacturing Authority; Fisker Automotive, Inc. (Electric Passenger Vehicles): Wilmington, DE

An application has been submitted to the Foreign-Trade Zones Board (the Board) by the Delaware Economic Development Office, grantee of FTZ 99, requesting manufacturing authority on behalf of Fisker Automotive, Inc. (Fisker), to manufacture electric-powered, light-duty passenger vehicles under FTZ procedures within FTZ 99. The application was submitted pursuant to the provisions of the Foreign-Trade Zones Act, as amended (19 U.S.C. 81a-81u), and the regulations of the Board (15 CFR part 400). It was formally filed on March 23, 2012.

The Fisker facility (approximately 1,500 employees) is located at 801 Boxwood Road in Wilmington, Delaware (Site 2). The facility (formerly owned by General Motors Corporation) will be used to produce electric-powered, light-duty passenger vehicles (up to 300,000 units per year) for the U.S. market and export. Components to be purchased from abroad (representing about 40% of total material inputs, by value) would include carboxylic acids, paints and varnishes, sealants, cleaning agents, grease/lubricating agents, adhesives, oils and fluids, welding compounds, fuel additives, anti-freeze, chemical preparations, tubing, flexible rubber tubes/hoses, self-adhesive plastic or polyurethane sheets/foil/film, labels, sealing tape, polyethylene/plastic bags, articles of plastic (e.g., handles, grips, knobs, locks, seals, o-rings, caps), articles of rubber (e.g., belts, tubes, hoses, dampeners, grommets, plugs, mountings), tires, gaskets, seals, floor mats, leather bags, man-made fiber and cotton textile bags/cases/sun blinds/felt/other articles (HTSUS categories 4202.12, 4202.19, 4202.92, 4202.99, 5602.90, 6305.20, 6307.90—these items will be admitted to FTZ 99 under privileged foreign status (19 CFR 146.41) or domestic (duty paid) status (19 CFR 146.43)), leather articles, wood boxes, items of paper/paperboard, printed materials, nets, carpet sets, mineral wools, safety glass, glass lenses, mirrors, car covers, fiberglass parts, heat deflectors, tube/pipe fittings, pins, hangers, body parts, trim parts, articles of base metals, roller chain, doors, fasteners, cotter pins, leaf/helical springs, clamps, articles of aluminum and copper, articles of zinc, hand tools, catalytic converters, locks and keys, spark-ignition and diesel engines, engine parts, pumps, compressors, air conditioner components, turbochargers, cooling boxes, filters, valves, parts of steering systems, steering wheels, hubs and flanges, chain, heat exchangers, spray nozzles, universal joints, clutches, half/drive shafts, transmissions and parts thereof, torque converters, differentials, bearings and parts thereof, compasses, thermostats, motors, alternators, batteries, ignition parts, electrical parts, lighting equipment, lamps, horns, windshield wipers, electric heaters, cameras, radio/audio/video components, navigational equipment, speakers, antennas, telephonic components, wiring harnesses, cable, electronic components, printed circuits, controllers, seats, seat belts, airbag modules/inflators, brake components, road wheels, wheel locks, lug nuts, lug wrenches, suspension components, radiators, heater cores, exhaust systems, hinges, pneumatic dampeners, speedometers, tachometers, voltmeters, gauges, oxygen sensors, flow meters, anti-theft systems, LCD displays, regulators, sensors, resistors, relays, starters, cigarette lighters, clocks, spark plugs, and switches (duty rate range: free-20%). The application also requests authority to include a broad range of inputs and finished passenger motor vehicles that Fisker may use in production or produce under FTZ procedures in the future. New major activity involving these inputs/products would require review by the FTZ Board.

FTZ procedures could exempt Fisker from customs duty payments on foreign components used in export production. The company anticipates that some 50 percent of the plant's shipments will be exported. On its domestic sales, Fisker would be able to choose the duty rates during customs entry procedures that apply to electric-powered passenger vehicles (duty rate—2.5%) for the foreign inputs noted above. FTZ designation would further allow Fisker to realize logistical benefits through the use of weekly customs entry procedures. Customs duties also could possibly be deferred or reduced on foreign status production equipment. The request indicates that the savings from FTZ procedures would help improve the plant's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the address below. The closing period for their receipt is May 29, 2012. Rebuttal comments in response to material submitted during the foregoing period may be submitted during the subsequent 15-day period to June 12, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Pierre Duy at Pierre.Duy@trade.gov or (202) 482-1378.

Dated: March 23, 2012.
Andrew McGilvray,
Executive Secretary.

[FR Doc. 2012-7597 Filed 3-28-12; 8:45 am]

BILLING CODE P